FEDERAL HOUSING FINANCE BOARD

[No. 2006-N-03]

Submission for OMB Review; Comment Request

AGENCY: Federal Housing Finance Board.

ACTION: Notice.

SUMMARY: In accordance with the requirements of the Paperwork Reduction Act of 1995, the Federal Housing Finance Board (Finance Board) has submitted the information collection entitled “Federal Home Loan Bank Acquired Member Assets, Core Mission Activities, Investments and Advances” to the Office of Management and Budget (OMB) for review and approval of a 3 year extension of the OMB control number, which is due to expire on March 31, 2007.

Elsewhere in this issue of the Federal Register, the Finance Board is publishing a final rule that reorganizes the way it imposes certain reporting requirements on the Federal Home Loan Banks (Banks), including the reporting requirements in this information collection. The information collection has been moved from Finance Board regulations and into the Data Reporting Manual, which is an enforceable order issued pursuant to the Finance Board's investigatory powers.

DATES: Interested persons may submit comments on or before July 21, 2006.

ADDRESSES: Submit comments to the Office of Information and Regulatory Affairs of the Office of Management and Budget, Attention: Desk Officer for the Federal Housing Finance Board, Washington, DC 20503.

FOR FURTHER INFORMATION OR COPIES OF THE INFORMATION COLLECTION CONTACT: David Roderer, Office of Supervision, by e-mail at rodererd@fhfb.gov, by telephone at 202-408-2540, or by regular mail at the Federal Housing Finance Board, 1625 Eye Street, NW., Washington DC 20006.

SUPPLEMENTARY INFORMATION:

A. Need For and Use of the Information Collection

The Finance Board has authorized the Banks to acquire mortgage loans and other assets from their members or housing associates under certain circumstances. 12 CFR part 955. The regulation refers to these assets as acquired member assets or AMA. As part of this regulatory authorization, each Bank that acquires residential mortgage loans must provide to the Finance Board certain loan-level data on a quarterly basis. The Finance Board uses this data to monitor the safety and soundness of the Banks and the extent to which the Banks are fulfilling their statutory housing finance mission through their AMA programs. See 12 U.S.C. 1422a(a).

While the Banks provide the AMA data directly to the Finance Board, each Bank initially must collect the information from the private-sector member or housing associate from which the Bank acquires the mortgage loan. Bank members and housing associates already collect the vast majority of the data the Finance Board requires in order to do business with Fannie Mae and Freddie Mac under regulatory requirements issued by the Department of Housing and Urban Development and pursuant to the information collection requirements under the Home Mortgage Disclosure Act. Thus, the Finance Board's information collection imposes only a minor incremental additional burden on Bank members and housing associates.

Elsewhere in this issue of the Federal Register, the Finance Board is publishing a final rule that reorganizes the way it imposes certain reporting requirements on the Banks, including the reporting requirements in this information collection. More specifically, the final rule removes the reporting requirements from 12 CFR part 955 (specifically, § 955.4 and Appendices A and B). At the same time it adopted the final rule, the Board of Directors added the AMA reporting requirements to the Data Reporting Manual (DRM), where they will appear as Chapter Three.¹ The DRM is available electronically on the Finance Board Web site at: http://www.fhfb.gov/Default.aspx?Page=101.

¹ See Resolution Number 2006-11 (June 14, 2006) (available electronically in the FOIA Reading Room of the Finance Board Web site at: http://www.fhfb.gov/Default.aspx?Page=59&Top=4).

The OMB control number for the information collection, which expires on March 31, 2007, is 3069-0058. The likely respondents are institutions that sell AMA assets to Banks.

B. Burden Estimate

The Finance Board estimates the total annual average number of respondents at 600, with 4 responses per respondent. The estimate for the average hours per response is 24 hours. The estimate for the total annual hour burden is 57,600 hours (600 respondents × 4 responses per respondent × 24 hours).

Bank members and housing associates could incur additional one-time costs to be able to collect and report the loan-level data elements needed to allow for better tracking and modeling of prepayment and default rates of mortgage portfolios. The Finance Board estimates this additional, one-time cost at $120,000 ($2,000 × 600 members/housing associates).

C. Comment Request

In accordance with the requirements of 5 CFR 1320.8(d), the Finance Board published a request for public comments regarding proposed changes to the AMA database and the burden estimates for this information collection in the Federal Register on November 2, 2005. See 70 FR 66413 (Nov. 2, 2005). The 60-day comment period closed on January 3, 2006. The Finance Board did not receive any comments.

The Finance Board requests written comments on the following: (1) Whether the collection of information is necessary for the proper performance of Finance Board functions, including whether the information has practical utility; (2) the accuracy of the Finance Board's estimates of the burdens and costs of the collection of information; (3) ways to enhance the quality, utility, and clarity of the information collected; and (4) ways to minimize the burden of the collection of information on respondents, including through the use of automated collection techniques or other forms of information technology. Submit comments to OMB in writing at the address listed above.

Dated: June 14, 2006.
By the Federal Housing Finance Board.
John P. Kennedy,
General Counsel.

[FR Doc. E6-9755 Filed 6-20-06; 8:45 am]

BILLING CODE 6725-01-P